DEPARTMENT OF ENERGY

Federal Energy Regulatory Commission

[Docket No. OR07-13-000]

Nexen Marketing U.S.A., Inc. Complainant, v. Belle Fourche Pipeline Company, Respondent; Notice of Complaint

July 9, 2007.

Take notice that on July 5, 2007, Nexen Marketing U.S.A., Inc. (Nexen) filed a formal complaint against Belle Fourche Pipeline Company (Belle Fourche) pursuant to Rule 206 of the Rules of Practice and Procedure of the Commission's regulations, 18 CFR 343.2; 385.206, the Procedural Rules Applicable to Oil Pipeline Proceedings, 18 CFR 343.2, sections 1(4), 1(5), 1(6), 2, 3(1), 15(1), and 16 of the Interstate Commerce Act , 49 U.S.C. App. 1(4), 1(5), 2, 3(1), 8, 9, 13, 15, and 16 (1984); and section 1803 of the Energy Policy Act of 1992 (EPAct).

Nexen alleges that the Transportation Services Agreement (TSA) that Belle Fourche transmitted to prospective shippers on June 27, 2007, violates the Interstate Commerce Act, is discriminatory, unjust and unreasonable and unlawfully abrogates shipper rights. Nexen requests that the Commission order Belle Fourche to desist from shipping any crude oil on its Expansion Pipeline from Baker, MT to Alexander, ND on the basis of the terms and conditions of the TSA that Belle Fourche transmitted to shippers for signature on June 27, 2007; determine that sections 4.01, 5.05, 6.02, 8.01(a) and 8.02, Article VII, VIII(a) and XIX and Attachment D of the Belle Fourche TSA are unlawful and unenforceable; order Belle Fourche to pay Nexen any refunds, reparations, or damages, plus interest, that the Commission determines are appropriate; resolve this complaint on an expedited basis; and grant Nexen such other, different or additional relief as the Commission may determine to be appropriate.

Nexen certifies that copies of the complaint were served on the Belle Fourche contact as listed on its TSA.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on July 25, 2007.

Kimberly D. Bose,
Secretary.

[FR Doc. E7-13855 Filed 7-17-07; 8:45 am]

BILLING CODE 6717-01-P